DEPARTMENT OF ENERGY

Federal Energy Regulatory Commission

Combined Notice of Filings #1

Take notice that the Commission received the following electric corporate filings:

Docket Numbers: EC24-58-000.

Applicants: Global Infrastructure Management, LLC, BlackRock, Inc.

Description: Application for Authorization Under Section 203 of the Federal Power Act of Global Infrastructure Management, LLC.

Filed Date: 3/12/24.

Accession Number: 20240312-5234.

Comment Date: 5 p.m. ET 4/2/24.

Docket Numbers: EC24-59-000.

Applicants: North East Offshore, LLC, Revolution Wind, LLC, South Fork Wind, LLC, GIP IV Whale Fund Holdings, L.P.

Description: Joint Application for Authorization Under Section 203 of the Federal Power Act of North East Offshore, LLC, et al.

Filed Date: 3/13/24.

Accession Number: 20240313-5193.

Comment Date: 5 p.m. ET 4/3/24.

Take notice that the Commission received the following Complaints and Compliance filings in EL Dockets:

Docket Numbers: EL24-86-000.

Applicants: New York Power Authority.

Description: Petition for Declaratory Order of New York Power Authority.

Filed Date: 3/6/24.

Accession Number: 20240306-5197.

Comment Date: 5 p.m. ET 4/5/24.

Docket Numbers: EL24-87-000.

Applicants: City of Tacoma, City of Tacoma, Department of Public Utilities, Light Division v. California Independent System Operator Corporation.

Description: Complaint of City of Tacoma, Department of Public Utilities, Light Division v. California Independent System Operator Corporation.

Filed Date: 3/13/24.

Accession Number: 20240313-5142.

Comment Date: 5 p.m. ET 4/2/24.

Take notice that the Commission received the following electric rate filings:

Docket Numbers: ER20-2471-006.

Applicants: NedPower Mount Storm, LLC.

Description: Compliance filing: NedPower Mount Storm LLC submits tariff filing per 35: NedPower Mount Storm PJM Schedule 2 Informational Filing to be effective N/A.

Filed Date: 3/12/24.

Accession Number: 20240312-5205.

Comment Date: 5 p.m. ET 4/2/24.

Docket Numbers: ER22-507-004.

Applicants: Pinnacle Wind, LLC.

Description: Compliance filing: Pinnacle Wind PJM Schedule 2 Informational Filing to be effective N/A.

Filed Date: 3/12/24.

Accession Number: 20240312-5210.

Comment Date: 5 p.m. ET 4/2/24.

Docket Numbers: ER22-944-005.

Applicants: Black Rock Wind Force, LLC.

Description: Compliance filing: Black Rock Wind Force PJM Schedule 2 Informational Filing to be effective N/A.

Filed Date: 3/12/24.

Accession Number: 20240312-5204.

Comment Date: 5 p.m. ET 4/2/24.

Docket Numbers: ER24-1458-000.

Applicants: Southwest Power Pool, Inc.

Description: 205(d) Rate Filing: 3023R3 Panama Wind GIA to be effective 2/22/2024.

Filed Date: 3/12/24.

Accession Number: 20240312-5214.

Comment Date: 5 p.m. ET 4/2/24.

Docket Numbers: ER24-1463-000.

Applicants: Ameren Illinois Company.

Description: 205(d) Rate Filing: Filing of a Reimbursement Agreement to be effective 5/13/2024.

Filed Date: 3/13/24.

Accession Number: 20240313-5054.

Comment Date: 5 p.m. ET 4/3/24.

Docket Numbers: ER24-1464-000.

Applicants: Sunlight Road Solar, L.L.C.

Description: 205(d) Rate Filing: Revised Market-Based Rate Tariff Filing to be effective 5/13/2024.

Filed Date: 3/13/24.

Accession Number: 20240313-5058.

Comment Date: 5 p.m. ET 4/3/24.

Docket Numbers: ER24-1465-000.

Applicants: Ameren Illinois Company, Ameren Illinois Company.

Description: 205(d) Rate Filing: Ameren Illinois Company submits tariff filing per 35.13(a)(2)(iii: Filing of a Reimbursement Agreement to be effective 5/13/2024.

Filed Date: 3/13/24.

Accession Number: 20240313-5059.

Comment Date: 5 p.m. ET 4/3/24.

Docket Numbers: ER24-1466-000.

Applicants: Ameren Illinois Company, Ameren Illinois Company.

Description: 205(d) Rate Filing: Ameren Illinois Company submits tariff filing per 35.13(a)(2)(iii: Filing of a Reimbursement Agreement to be effective 5/13/2024.

Filed Date: 3/13/24.

Accession Number: 20240313-5060.

Comment Date: 5 p.m. ET 4/3/24.

Docket Numbers: ER24-1467-000.

Applicants: Trans Bay Cable LLC.

Description: 205(d) Rate Filing: Correction to 2024 TRBAA Annual Update to be effective 1/1/2024.

Filed Date: 3/13/24.

Accession Number: 20240313-5062.

Comment Date: 5 p.m. ET 4/3/24.

Docket Numbers: ER24-1469-000.

Applicants: PJM Interconnection, L.L.C.

Description: 205(d) Rate Filing: Revisions to OA, Sch. 12 and RAA, Sch 17 re: 4Q 2023 Membership Lists to be effective 12/1/2023.

Filed Date: 3/13/24.

Accession Number: 20240313-5085.

Comment Date: 5 p.m. ET 4/3/24.

Docket Numbers: ER24-1471-000.

Applicants: NextEra Energy Transmission MidAtlantic Indiana, Inc.

Description: 205(d) Rate Filing: NextEra Energy Transmission MidAtlantic, Inc. Notice of Succession to be effective 12/13/2023.

Filed Date: 3/13/24.

Accession Number: 20240313-5120.

Comment Date: 5 p.m. ET 4/3/24.

Docket Numbers: ER24-1472-000.

Applicants: Northern States Power Company, a Minnesota corporation, Northern States Power Company, a Wisconsin corporation.

Description: 205(d) Rate Filing: Northern States Power Company, a Minnesota corporation submits tariff filing per 35.13(a)(2)(iii: 2024 Interchange Agreement Annual Filing to be effective 1/1/2024.

Filed Date: 3/13/24.

Accession Number: 20240313-5122.

Comment Date: 5 p.m. ET 4/3/24.

Docket Numbers: ER24-1473-000.

Applicants: Midcontinent Independent System Operator, Inc., ALLETE, Inc.

Description: 205(d) Rate Filing: Midcontinent Independent System Operator, Inc. submits tariff filing per 35.13(a)(2)(iii: 2024-03-13_ALLETE Request for Transmission Rate Incentives to be effective 3/14/2024.

Filed Date: 3/13/24.

Accession Number: 20240313-5138.

Comment Date: 5 p.m. ET 4/3/24.

Docket Numbers: ER24-1477-000.

Applicants: ISO New England Inc., Central Maine Power Company.

Description: 205(d) Rate Filing: ISO New England Inc. submits tariff filing per 35.13(a)(2)(iii: ISO-NE/CMP; Original Service Agreement No. LGIA-ISONE/CMP-24-01 to be effective 2/12/2024.

Filed Date: 3/13/24.

Accession Number: 20240313-5168.

Comment Date: 5 p.m. ET 4/3/24.

Docket Numbers: ER24-1478-000.

Applicants: AEP Texas Inc.

Description: 205(d) Rate Filing: AEPTX-Monte Cristo 1st Amended Windpower System Upgrade Agreement to be effective 2/22/2024.

Filed Date: 3/13/24.

Accession Number: 20240313-5173.

Comment Date: 5 p.m. ET 4/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 13, 2024.
Debbie-Anne A. Reese,
Acting Secretary.

[FR Doc. 2024-05792 Filed 3-18-24; 8:45 am]

BILLING CODE 6717-01-P